DEPARTMENT OF HEALTH AND HUMAN SERVICES

Administration for Community Living

Agency Information Collection Activities; Submission for OMB Review; Public Comment Request; the National Survey of Older Americans Act Participants Module on Emergency Preparedness; OMB 0985-0023

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice solicits comments on the addition of a new rotating module on Emergency Preparedness to be added to the currently approved National Survey of Older Americans Act Participants used by ACL to measure program performance for programs funded under Title III of the Older Americans Act.

DATES: Submit written comments on the collection of information by May 2, 2022.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Terrill Curtis, Administration for Community Living, Washington, DC 20201, by email at Terrill.Curtis@acl.hhs.gov or by telephone at 202-795-7420.

SUPPLEMENTARY INFORMATION: In compliance with 44 U.S.C. 3507, ACL has submitted the following proposed collection of information to OMB for review and clearance. The Administration for Community Living (ACL) is requesting approval for a rotating module on Emergency Preparedness to be added to the currently approved National Survey of Older Americans Act (OAA) Participants. The purpose of adding questions on emergency preparedness to the NSOAAP is to measure the extent to which older adults have received training on, and are prepared for, an emergency event.

Older adults often have unique needs during an emergency or crisis. For example, they may have mobility challenges and/or chronic health conditions, or they may not have any family or friends nearby to support them. Support services that an older adult relies on to live at home, such as help from family caregivers, in-home health care, and home delivered meals, may be unavailable due to the disaster. These conditions increase a person's vulnerability and may lead to nursing home care that may have been otherwise avoidable. In addition, older adults may be hearing or vision impaired or have a cognitive impairment such as dementia, which may make it difficult to access and respond to emergency directions. The assessment of emergency preparedness levels among the OAA population is necessary to prevent injuries, to plan assistance strategies, and to increase resilience for older Americans.

ACL is requesting approval for a module on Emergency Preparedness to be added to the currently approved NSOAAP data collection effort. This module on Emergency Preparedness was originally included in the 60-day FRN on November 17, 2020 (85 FR 73273). However, due to the ongoing health crisis older adults were experiencing because of COVID-19, a module on the pandemic was added to the 2021 NSOAAP instead of the Emergency Preparedness module.

The data will be used by the Administrator of the Administration for Community Living/Assistant Secretary for Aging to:

• Help States and AAAs to structure their programs and services to better prepare OAA clients for emergencies.

• Provide secondary data for analysis of the level of preparedness among OAA clients in the event of disasters such as natural disasters; public health emergencies; man-made disasters; and technological emergencies.

• Identify gaps in emergency preparedness at the national level that may disproportionately affect the most vulnerable OAA clients such as those living in rural areas, having income below the poverty level, belonging to a racial or ethnic minority group, and/or having a disability.

Descriptions of previous National Surveys of OAA Participants can be found under the section on OAA Performance Information on ACL's website at: https://acl.gov/programs/performance-older-americans-act-programs. Copies of the survey instruments and data from previous National Surveys of OAA Participants can be found and queried using the Aging, Independence, and Disability (AGID) Program Data Portal at http://www.agid.acl.gov/.

Estimated Program Burden: ACL estimates the burden associated with this collection of information as follows:

Respondent/data collection activity | Number of respondents | Responses per respondent | Hours per response | Annual burden hours | Cost per hour | Annual burden (cost)
Rotating Module on Emergency Preparedness | 6,000 | 1 | .2 | 1,200 | $25 | $30,000

Dated: March 25, 2022.
Alison Barkoff,
Acting Administrator and Assistant Secretary for Aging.

[FR Doc. 2022-06783 Filed 3-30-22; 8:45 am]

BILLING CODE 4154-01-P